DEPARTMENT OF TRANSPORTATION

Federal Highway Administration

Environmental Impact Statement: Thorn Creek to Moscow, ID

AGENCY: Federal Highway Administration (FHWA), DOT.

ACTION: Notice of intent.

SUMMARY: The FHWA is issuing this notice to advise the public that an Environmental Impact Statement (EIS) will be prepared for a proposed highway project in Latah County, Idaho.

FOR FURTHER INFORMATION CONTACT: Russell L. Jorgenson, Field Operations Engineer, Federal Highway Administration, 3050 Lakeharbor Lane, Suite 126, Boise, Idaho 83703, telephone: (208) 334-9180; or Zachary Funkhouser, Senior Environmental Planner, Idaho Transportation Department, P.O. Box 837, Lewiston, ID 83501, telephone (208) 799-5090.

SUPPLEMENTARY INFORMATION: The Federal Highway Administration, in cooperation with the Idaho Transportation Department, will prepare an EIS on a proposal to improve U.S. Highway 95 south of Moscow, Idaho. The proposed highway alternatives vary in length from 6.1 to 7.4 miles in length and will provide four travel lanes. The termini for the project are from the intersection at Thorn Creek Road on the southern end to the South Fork Palouse River Bridge on the north end.

This improvement is considered necessary to relieve current and projected traffic congestion on U.S. Highway 95 and to address high accident locations. Alternatives under consideration include (1) taking no action, (2) updating and improving the existing alignment, (3) alternatives east of existing U.S. 95, and (4) alternatives west of existing U.S. 95.

Letters describing the proposed action and soliciting comments will be sent to the appropriate Federal, State and local agencies and citizens who have previously expressed interest in this proposed project. Scoping will begin with the publication of the Notice of Intent. As part of the scoping process, public information meetings will be held in addition to public hearings. Public notice will be given of the time and place of any public information meetings and the public hearings. The draft EIS will be made available in electronic format for public and agency review and comment.

To ensure that the full range of issues related to this proposed action are addressed and all significant issues are identified, comments and suggestions are invited from all interested parties.

Comments or questions concerning this proposed action and the EIS should be directed to the FHWA or ITD at the addresses provided above.

Authority: 23 U.S.C. 315; 23 CFR 771.123; 49 CFR 1.48.

Issued on: November 5, 2003.
Pamela S. Cooksey,
Assistant Division Administrator, Federal Highway Administration, Boise, Idaho.

[FR Doc. 03-28429 Filed 11-12-03; 8:45 am]

BILLING CODE 4910-22-M